DEPARTMENT OF DEFENSE

Notice of Intent To Prepare an Environmental Impact Statement for the Modernization and Enhancement of Ranges, Airspace, and Training Areas in the Joint Pacific Alaska Range Complex in Alaska

AGENCY: U.S. Air Force, U.S. Army.

ACTION: Notification of Extension of Scoping Period.

SUMMARY: The U.S. Air Force and U.S. Army, on behalf of Alaskan Command (ALCOM), are issuing this notice to advise the public of the extension to submit scoping comments. The initial Notice of Intent published in the Federal Register on December 8, 2010 (Federal Register Vol. 75, No. 235, 76444), requested scoping comments no later than February 4, 2011. The Air Force and Army have extended the deadline for submitting scoping comments to March 4, 2011. All are encouraged to provide comments on the proposed actions either by mail, postmarked or electronically submitted no later than March 4, 2011, to ensure consideration in the draft EIS. All comments received during this scoping period will be considered in the preparation of the draft EIS.

Point of Contact: Please direct any written comments or requests for information to ALCOM Public Affairs, 9480 Pease Avenue, Suite 120, JBER, AK 99506, Phone: 907-552-2341, Fax: 907-552-5411 or submit them electronically at http://www.jparceis.com. You may also request handicap assistance or translation services for the public scoping meetings in advance through the ALCOM Public Affairs Office.

Bao-Anh Trinh,
Air Force Federal Register Liaison Officer.

[FR Doc. 2011-4220 Filed 2-24-11; 8:45 am]

BILLING CODE 5001-10-P